DEPARTMENT OF HEALTH AND HUMAN SERVICES

Sterilization of Persons in Federally Assisted Family Planning Projects (July 17, 2009); Correction

AGENCY: Department of Health and Human Services.

ACTION: Notice: correction.

SUMMARY: The Department of Health and Human Services (HHS) published a document in the Federal Register of July 17, 2009, requesting OMB reauthorization of the form “Sterilization of Persons in Federally Assisted Family Planning Projects.” The document contained an incorrect citation to the HHS sterilization regulations; incorrectly identified the Office of Population Affairs (OPA), rather than the Public Health Service (PHS), as the agency within HHS that administers programs of health services which are supported by Federal financial assistance and which are required to obtain informed consent from persons undergoing sterilizations; incorrectly described the form that is required to be used to obtain informed consent; and incorrectly referred to the regulations to which the consent form is appended as OPA regulations rather than PHS regulations.

FOR FURTHER INFORMATION CONTACT: Sherette Funn-Coleman, 202-690-5683.

Corrections:

In the Federal Register of July 17, 2009, in FR Doc. OS-0937-0166, on page 34757, in the second column, correct the citation to the sterilization regulations to read:

Proposed Project: HHS 42 CFR part 50, subpart B; Sterilization of Persons in Federally Assisted Family Planning Projects—

In the third column, correct the “Abstract” related to the consent form to read as follows:

The consent form solicits information to assure voluntary and informed consent to persons undergoing sterilization in programs of health services which are supported by Federal financial assistance administered by the Public Health Service (PHS). The form provides additional procedural protections to individuals undergoing sterilization. In order to obtain informed consent, the regulation requires that programs use either the form that is appended to the PHS regulation or another consent form approved by the Secretary.

Dated: August 7, 2009.
Seleda Perryman,
Office of the Secretary, Paperwork Reduction Act Reports Clearance Officer.

[FR Doc. E9-19566 Filed 8-14-09; 8:45 am]

BILLING CODE 4150-34-P